DEPARTMENT OF LABOR

Employment and Training Administration

Labor Surplus Area Classification Under Executive Orders 12073 and 10582

AGENCY: Employment and Training Administration, Labor.

ACTION: Notice of addition to the Labor Surplus Area List.

SUMMARY: The purpose of this notice is to announce an addition to the labor surplus area list for Fiscal Year (FY) 2002. Decatur City, Illinois is added to the list under the exceptional circumstance criteria effective August 1, 2002.

DATES: August 1, 2002.

FOR FURTHER INFORMATION CONTACT: Gay Gilbert, Division Chief, U.S. Employment Service, Employment and Training Administration, 200 Constitution Avenue, NW., Room C 4512, Washington, DC 20210. Telephone: (202) 693-3046.

SUPPLEMENTARY INFORMATION: The Department of Labor regulations implementing Executive Orders 12073 and 10582 are set forth at 20 CFR part 654, subparts A and B. These regulations require the Assistant Secretary of Labor to classify jurisdictions as labor surplus areas pursuant to the criteria specified in the regulations and to publish annually a list of labor surplus areas. These regulations also provide for designation as a labor surplus area under exceptional circumstances criteria. Pursuant to those regulations, the Assistant Secretary of Labor is hereby publishing an addition to the annual list of labor surplus areas for FY 2002.

Eligible labor surplus area | Civil jurisdictions included
Illinois
Decatur City | Decatur City.

For the convenience of the public, the Labor Surplus Area list is posted on the Internet at www.doleta.gov.

Dated: August 1, 2002.
Emily Stover DeRocco,
Assistant Secretary of Labor.

[FR Doc. 02-20911 Filed 8-15-02; 8:45 am]

BILLING CODE 4510-30-M